DEPARTMENT OF COMMERCE

Foreign-Trade Zones Board

[Order No. 1939]

Reorganization of Foreign-Trade Zone 39 (Expansion of Service Area) under Alternative Site Framework; Dallas/Fort Worth, Texas

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Dallas/Fort Worth International Airport Board, grantee of Foreign-Trade Zone 39, submitted an application to the Board (FTZ Docket B-84-2013, 9-13-2013) for authority to expand the service area of the zone to include Hunt County, Texas, as described in the application, adjacent to the Dallas/Fort Worth Customs and Border Protection port of entry;

Whereas, notice inviting public comment was given in the Federal Register (78 FR 57618, 9-19-2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 39 to expand the service area under the ASF is approved, subject to the FTZ Act and the Board's regulations, including Section 400.13, and to the Board's standard 2,000-acre activation limit for the zone.

Signed at Washington, DC, this 16th day of May 2014.
Ronald K. Lorentzen,
Acting Assistant Secretary of Commerce, for Enforcement and Compliance, Alternate Chairman, Foreign-Trade Zones Board.
ATTEST:
Andrew McGilvray,
Executive Secretary.

[FR Doc. 2014-12049 Filed 5-23-14; 8:45 am]

BILLING CODE 3510-DS-P